DEPARTMENT OF THE INTERIOR

National Park Service

[NPS-WASO-NRNHL-12813; PPWOCRADI0, PCU00RP14.R50000]

National Register of Historic Places; Notification of Pending Nominations and Related Actions

Nominations for the following properties being considered for listing or related actions in the National Register were received by the National Park Service before April 6, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by May 13, 2013. Before including your address, phone number, email address, or other personal identifying information in your comment, you should be aware that your entire comment—including your personal identifying information—may be made publicly available at any time. While you can ask us in your comment to withhold your personal identifying information from public review, we cannot guarantee that we will be able to do so.

Dated: April 10, 2013.
Alexandra Lord,
Acting Chief, National Register of Historic Places/National Historic Landmarks Program.

CONNECTICUT

Middlesex County

Bushnell—Dickinson House, 170 Old Post Rd., Old Saybrook, 13000289

DISTRICT OF COLUMBIA

District of Columbia

Capital Traction Company Car Barn, 4615 14th St. NW., Washington, 13000290

GEORGIA

Clarke County

Oconee Hill Cemetery, 297 Cemetery St., Athens, 13000291

Dodge County

Dodge County Jail, 5100 Courthouse Cir., Eastman, 13000292

IDAHO

Latah County

Bohman, Ole, House, 114 N. Main St., Troy, 13000293

ILLINOIS

Cook County

West Loop—LaSalle Street Historic District, Roughly bounded by Wacker Dr., Wells, Van Buren & Clark Sts., Chicago, 13000294

McDonough County

Macomb Courthouse Square historic District, Roughly bounded by E. & W. Washington, S. McArthur, E. Calhoun & S. Campbell Sts., Macomb, 13000295

IOWA

Mills County

Glenwood Archeological District, (Archeological Resources of the Central Plains Tradition in the Loess Hills Region of Iowa MPS) Address Restricted, Glenwood, 13000296

Washington County

Washington Downtown Historic District, (Iowa's Main Street Commercial Architecture MPS) 11 blks. of Iowa & Marion Aves., Washington, Main & 2nd Sts., Washington, 13000297

LOUISIANA

St. James Parish

Our Lady of Peace Catholic Church, 13281 LA 644, Vacherie, 13000299

MISSISSIPPI

Chickasaw County

Houston Historic District, Depot, Monroe, Madison & Pontotoc Sts., Houston, 13000300

Hinds County

Calvary Baptist Church, 1300 W. Capitol St., Jackson, 13000301

Jackson County

Gautier Beachfront Historic District, Roughly bounded by Pascagoula Bay, Graveline Rd. & S. branch of Bayou Pierre, Gautier, 13000302

Krebsville Historic District (Boundary Increase), (Pascagoula MPS) Roughly bounded by Lake, Cedar, Pine & Market Sts., Laurel & Denny Aves., Pascagoula, 13000303

NEW YORK

Clinton County

Lyon Street School, Jct. of Rock & Lyons Rds., Peru, 13000304

Erie County

Buffalo Zoo Entrance Court, Parkside Ave. & Amherst St., Buffalo, 13000305

Hager, E.M. & Sons Company, Building, 141 Elm St., Buffalo, 13000306

Monroe County

South Wedge Historic District, 20-98 Alexander, 20-123 Ashland, 39-336 Averill, 14-89 Bond, 38-149 Comfort, 1-396 Gregory, 59-279 Hamilton Sts., Rochester, 13000307

Montgomery County

Hurricana Stock Farm, NY 30, Amsterdam, 13000308

New York County

Fire Hook and Ladder Company No. 14, 120 E. 125th St., New York, 13000309

Warren County

Delaware and Hudson Passenger Station, 57 Beach Rd., Lake George, 13000310

OREGON

Marion County

Hobson—Gehlen General Merchandise Store, (Downtown Area of Stayton MPS) 189 N. 2nd Ave., Stayton, 13000311

Wheeler County

Fossil Public School, 404 Main St., Fossil, 13000312

TEXAS

Wood County

Mineola Downtown Historic District, Roughly bounded by ½ blk. W. of Line St., Kilpatrick St., ½ blk. E. of Newsom St., Commerce St. & Mineola RR Depot Mineola, 13000288

WISCONSIN

Iowa County

Pulaski Presbyterian Church Complex, 6757 Cty. Rd. P, Pulaski, 13000313

La Crosse County

Oehler Mill Complex, W5539 & W5565 Cty. Rd. MM, Shelby, 13000314

A request for removal has been made for the following resource:

TEXAS

Fayette County

Mulberry Creek Bridge, 2.5 mi. SW of Schulenburg on Old Praha Rd. Schulenburg, 75001976

[FR Doc. 2013-09859 Filed 4-25-13; 8:45 am]

BILLING CODE 4312-51-P